FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A copy of the agreement is available through the Commission's website (www.fmc.gov) or by contacting the Office of Agreements at (202)-523-5793 or tradeanalysis@fmc.gov.

Agreement No.: 012464-001.

Title: NYK/CMA CGM Space Charter Agreement.

Parties: Nippon Yusen Kaisha, CMA CGM S.A., and Ocean Network Express.

Filing Party: Joshua Stein; Cozen O'Connor; 1200 19th Street NW; Washington, DC 20036.

Synopsis: The Amendment revises the Agreement to provide for the transition that will occur following the combination of the container liner operations of Kawasaki Kisen Kaisha, Ltd.; Mitsui O.S.K. Lines, Ltd.; and Nippon Yusen Kaisha into a new company known as Ocean Network Express Pte. Ltd. effective April 1, 2018. Accordingly, Ocean Network Express Pte. Ltd. is added as a party. The Parties request Expedited Review.

By Order of the Federal Maritime Commission.
Dated: March 14, 2018.
Rachel E. Dickon,
Secretary.

[FR Doc. 2018-05558 Filed 3-19-18; 8:45 am]

BILLING CODE 6731-AA-P